DEPARTMENT OF TRANSPORTATION

Federal Aviation Administration

14 CFR Part 95

[Docket No. 31174; Amdt. No. 537]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, Feburary 1, 2018.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on December 29, 2017.
John S. Duncan,
Executive Director, Flight Standards Service.

Adoption of the Amendment

Accordingly, pursuant to the authority delegated to me by the Administrator, part 95 of the Federal Aviation Regulations (14 CFR part 95) is amended as follows effective at 0901 UTC, Feburary 01, 2018.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 537 effective date February 1, 2018]
From | To | MEA
§ 95.6001 Victor Routes—U.S.
§ 95.6006 VOR Federal Airway V6 Is Amended To Read In Part
PHILIPSBURG, PA VORTAC | SELINSGROVE, PA VOR/DME | 4100
SELINSGROVE, PA VOR/DME | SNOWY, PA FIX | *5000
*4000—GNSS MEA
§ 95.6012 VOR Federal Airway V12 Is Amended To Read In Part
NEWCOMERSTOWN, OH VOR/DME | *ALLEGHENY, PA VOR/DME | 3300
*10000—MCA | ALLEGHENY, PA VOR/DME, E BND
ALLEGHENY, PA VOR/DME | *JOHNSTOWN, PA VORTAC | #10000
*10000—MCA | JOHNSTOWN, PA VORTAC, W BND
#ALLEGHENY R-096 | UNUSABLE USE JOHNSTOWN R-274
JOHNSTOWN, PA VORTAC | HARRISBURG, PA VORTAC | 5400
§ 95.6030 VOR Federal Airway V30 Is Amended To Read In Part
PHILIPSBURG, PA VORTAC | SELINSGROVE, PA VOR/DME | 4100
§ 95.6031 VOR Federal Airway V31 Is Amended To Read In Part
SELINSGROVE, PA VOR/DME | WATSO, PA FIX | *3500
*3100—MOCA |  |
§ 95.6063 VOR Federal Airway V63 Is Amended By Adding
GAMPS, AR FIX | BILIE, MO FIX | *4000
*3200—MOCA |  |
§ 95.6105 VOR Federal Airway V105 Is Amended To Read In Part
BOULDER CITY, NV VORTAC | *LAS VEGAS, NV VORTAC | 6000
*10500—MCA LAS VEGAS, NV | VORTAC, W BND
LAS VEGAS, NV VORTAC | HARLS, NV FIX
| E BND | 7000
| W BND | 14000
HARLS, NV FIX | LUCKY, NV FIX
| E BND | 11000
| W BND | 14000
LUCKY, NV FIX | *HIDEN, CA FIX | 14000
*14000—MRA
*14000—MCA HIDEN, CA | FIX, E BND
*HIDEN, CA FIX | BEATTY, NV VORTAC | **12000
*14000—MRA
**8600—MOCA |  |
§ 95.6106 VOR Federal Airway V106 Is Amended To Read In Part
JOHNSTOWN, PA VORTAC | HUDON, PA FIX | 5000
HUDON, PA FIX | *RASHE, PA FIX | **7000
*14000—MCA RASHE, PA | FIX, E BND
**4000—MOCA
**4000—GNSS MEA
RASHE, PA FIX | SELINSGROVE, PA VOR/DME | 14000
§ 95.6135 VOR Federal Airway V135 Is Amended To Read In Part
NEEDLES, CA VORTAC | *GOFFS, CA VORTAC | **8000
*9600—MCA GOFFS, CA | VORTAC, NW BND
**7100—MOCA
GOFFS, CA VORTAC | *WHIGG, CA FIX | **12000
*12000—MRA
**10000—MOCA
*WHIGG, CA FIX | CLARR, CA FIX | **12000
*12000—MRA
**10500—MOCA
CLARR, CA FIX | *HIDEN, CA FIX | **12000
*14000—MRA
**9100—MOCA
*HIDEN, CA FIX | BEATTY, NV VORTAC | **12000
*14000—MRA |  |
**8600—MOCA |  |
§ 95.6170 VOR Federal Airway V170 Is Amended To Read In Part
SELINSGROVE, PA VOR/DME | RAVINE, PA VORTAC | *4000
*3400—MOCA |  |
§ 95.6188 VOR Federal Airway V188 Is Amended To Read In Part
SWANK, PA FIX | WILKES-BARRE, PA VORTAC
| E BND | *4000
| W BND | *4500
*3700—MOCA |  |
§ 95.6217 VOR Federal Airway V217 Is Amended To Read In Part
RHINELANDER, WI VOR/DME | DULUTH, MN VORTAC | *6000
*4100—MOCA |  |
§ 95.6226 VOR Federal Airway V226 Is Amended To Read In Part
SWANK, PA FIX | WILKES-BARRE, PA VORTAC
| E BND | *4000
| W BND | *4500
*3700—MOCA |  |
§ 95.6297 VOR Federal Airway V297 Is Amended To Read In Part
JOHNSTOWN, PA VORTAC | TALLS, PA FIX | 4400
§ 95.6301 VOR Federal Airway V301 Is Amended To Read In Part
RUMSY, CA FIX | WILLIAMS, CA VORTAC
| SW BND | 7000
| NE BND | 5300
§ 95.6469 VOR Federal Airway V469 Is Amended To Read In Part
MORGANTOWN, WV VORTAC | *NESTO, PA FIX | **5000
*10000—MCA NESTO, PA | FIX, E BND
**4300—MOCA
NESTO, PA FIX | *JOHNSTOWN, PA VORTAC | 10000
*10000—MCA JOHNSTOWN, PA | VORTAC, W BND
JOHNSTOWN, PA VORTAC | ST THOMAS, PA VORTAC | #5000
#JOHNSTOWN R-125 | UNUSABLE, USE ST THOMAS R-307
§ 95.6509 VOR Federal Airway V509 Is Amended To Read In Part
ST PETERSBURG, FL VORTAC | *CROWD, FL FIX | **5000
*5000—MRA
**2700—MOCA |  |
§ 95.6528 VOR Federal Airway V528 Is Amended To Read In Part
EAGUL, AZ FIX | *PAYSO, AZ FIX | **16000
*16000—MCA PAYSO, AZ | FIX, SW BND
**10000—MOCA |  |

Airway Segment: From | Airway Segment: To | Changeover Points: Distance | Changeover Points: From
§ 95.8003 VOR Federal Airway Changeover Point
V12 Is Amended To Add Changeover Point
NEWCOMERSTOWN, OH VOR/DME | ALLEGHENY, PA VOR/DME | 30 | NEWCOMERSTOWN.
V495 Is Amended To Delete Changeover Point
SEATTLE, WA VORTAC | VICTORIA, CA VOR/DME | 50 | SEATTLE.

[FR Doc. 2018-00130 Filed 1-8-18; 8:45 am]

BILLING CODE 4910-13-P